DEPARTMENT OF TRANSPORTATION

Federal Aviation Administration

14 CFR Part 39

[Docket No. FAA-2013-0543; Directorate Identifier 2012-NM-202-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318, A319, A320, and A321 series airplanes. This proposed AD was prompted by a determination that certain special washers used in the retraction jack anchorage fitting bearing installation in the main landing gear (MLG) were incorrectly manufactured. This proposed AD would require an inspection of the left-hand (LH) and right-hand (RH) MLG retraction jack anchorage fitting bearing assemblies to verify that the special washer is seated correctly, and related investigative and corrective actions if necessary. We are proposing this AD to detect and correct installation of incorrectly manufactured special washers, which could lead to a local stress concentration resulting in possible reduction of the fatigue life of the jack fitting, and consequent reduction of the structural integrity of the affected MLG.

DATES: We must receive comments on this proposed AD by August 15, 2013.

ADDRESSES: You may send comments by any of the following methods:

• Federal eRulemaking Portal: Go to http://www.regulations.gov. Follow the instructions for submitting comments.

• Fax: (202) 493-2251.

• Mail: U.S. Department of Transportation, Docket Operations,M-30, West Building Ground Floor, Room W12-140, 1200 New Jersey Avenue SE., Washington, DC 20590.

• Hand Delivery: U.S. Department of Transportation, Docket Operations,M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2013-0543; Directorate Identifier 2012-NM-202-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0223, dated October 23, 2012 (referred to after this as the Mandatory Continuing Airworthiness Information, or “the MCAI”), to correct an unsafe condition for the specified products. The MCAI states:

Airbus identified a batch of special washers, Part Number (P/N) D5725260120000 and P/N D5725664320000, which were incorrectly manufactured and delivered as spares from the supplier between October 2006 and January 2010. As a result of these manufacturing defects, the affected washers differ geometrically from the design specifications. The results of further analyses on Airbus A318, A319, A320 and A321 aeroplanes demonstrate that the affected washers could be seated incorrectly when installed on aeroplanes, which could affect the main landing gear (MLG) retraction jack anchorage fitting bearing installation.

This condition, if not detected and corrected, could lead to a local stress concentration which may reduce the fatigue life of the jack fitting, possibly reducing the structural integrity of the affected MLG.

For the reasons described above, this [EASA] AD requires a one-time detailed visual inspection of the left-hand (LH) and right-hand (RH) MLG retraction jack anchorage fitting bearing assemblies to verify that the special washer is seated correctly and, depending on findings, the accomplishment of applicable [related investigative action and] corrective actions.

The related investigative action is a detailed inspection of the jack anchorage fitting for damage, corrosion, cracks or other defects. Corrective actions include replacing the special washer with a new special washer and repairing the jack anchorage fitting if there are signs of damage, corrosion, or other defects. You may obtain further information by examining the MCAI in the AD docket.

Relevant Service Information

Airbus has issued Airbus Service Bulletin A320-57-1169, Revision 01, dated September 18, 2012, and the following tasks in Subject 57-26-13, Attachment—Main Landing Gear, of Chapter 57, Wings, of the Airbus A318/A319/A320/A321 Aircraft Maintenance Manual (AMM), Revision 50, dated November 1, 2012.

• Task 57-26-13-400-001-A, Installation of the Bearing Assembly of the Forward Pintle Pin.

• Task 57-26-13-400-002-A, Installation of the Bearing Assembly of the MLG Actuator Attachment.

• Task 57-26-13-400-004-A, Installation of the Bearing Seals of the MLG Actuator Bearing Assembly.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Airbus Service Bulletin A320-57-1169, Revision 01, dated September 18, 2012, specifies to contact the manufacturer for instructions on how to repair certain conditions, but this proposed AD would require repairing those conditions using a method approved by either the Manager, International Branch, ANM-116, Transport Airplane Directorate, FAA; or the EASA (or its delegated agent).

Costs of Compliance

Based on the service information, we estimate that this proposed AD would affect about 851 products of U.S. registry. We also estimate that it would take about 3 work-hours per product to comply with the basic requirements of this proposed AD. The average labor rate is $85 per work-hour. Based on these figures, we estimate the cost of the proposed AD on U.S. operators to be $217,005, or $255 per product. In addition, we estimate that any necessary follow-on actions would take about 15 work-hours, for a cost of $1,275 per product. We have received no definitive data that would enable us to provide part cost estimates for the on-condition actions specified in this proposed AD. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0543; Directorate Identifier 2012-NM-202-AD.

(a) Comments Due Date

We must receive comments by August 15, 2013.

(b) Affected ADs

None.

(c) Applicability

This AD applies to the Airbus airplanes listed in paragraphs (c)(1), (c)(2), (c)(3), and (c)(4) of this AD, certificated in any category, all manufacturer serial numbers.

(1) Model A318-111, -112, -121, and -122 airplanes.

(2) Model A319-111, -112, -113, -114, -115, -131, -132, and -133 airplanes.

(3) Model A320-111, -211, -212, -214, -231, -232, and -233 airplanes.

(4) Model A321-111, -112, -131, -211, -212, -213, -231, and -232 airplanes.

(d) Subject

Air Transport Association (ATA) of America Code 57, Wings.

(e) Reason

This AD was prompted by a determination that certain special washers used in retraction jack anchorage fitting bearing installation in the main landing gear (MLG) were incorrectly manufactured. We are issuing this AD to detect and correct installation of incorrectly manufactured special washers, which could lead to a local stress concentration resulting in possible reduction of the fatigue life of the jack fitting, and consequent reduction of the structural integrity of the affected MLG.

(f) Compliance

You are responsible for having the actions required by this AD performed within the compliance times specified, unless the actions have already been done.

(g) Detailed Inspection

Within 21,300 flight cycles after August 1, 2006, or within 30 days after the effective date of this AD, whichever occurs later: Do a detailed inspection of the left-hand (LH) and right-hand (RH) MLG retraction jack anchorage fitting bearing assemblies for correct installation, in accordance with the Accomplishment Instructions of Airbus Service Bulletin A320-57-1169, Revision 01, dated September 18, 2012, except as specified in paragraphs (i)(1) and (i)(2) of this AD.

Note 1 to paragraph (g) of this AD: The affected special washers having part numbers (P/N) D5725260120000 and P/N D5725664320000 were manufactured between October 2006 and January 2010.

(h) Related Investigative and Corrective Actions

If any special washer is found incorrectly seated during the inspection specified in paragraph (g) of this AD: Before further flight, do all applicable related investigative and corrective actions, in accordance with the Accomplishment Instructions of Airbus Service Bulletin A320-57-1169, Revision 01, dated September 18, 2012, except as specified in paragraph (i)(3) of this AD.

(i) Exceptions to Inspections and Service Information

(1) Airplanes on which Airbus modification 39730 or Airbus modification 150311 has been embodied in production, or on which Airbus Service Bulletin A320-57-1157 has been embodied in service, do not have to be inspected as required by paragraph (g) of this AD, unless a special washer having P/N D5725260120000 or P/N D5725664320000 has been installed since the airplane's first flight, or since modification as specified in Airbus Service Bulletin A320-57-1157, as applicable. A review of airplane maintenance records is acceptable to make this determination if the part numbers of the special washers and modification status can be conclusively determined from that review.

(2) MLG retraction jack anchorage fitting bearing assemblies on which no special washer replacement has been accomplished after August 1, 2006; and MLG retraction jack anchorage fitting bearing assemblies on which a special washer replacement has been accomplished as specified in Task 57-26-13-400-001-A, Installation of the Bearing Assembly of the Forward Pintle Pin; Task 57-26-13-400-002-A, Installation of the Bearing Assembly of the MLG Actuator Attachment; and Task 57-26-13-400-004-A Installation of the Bearing Seals of the MLG Actuator Bearing Assembly; of Subject 57-26-13, Attachment—Main Landing Gear, of Chapter 57, Wings, of the Airbus A318/A319/A320/A321 Aircraft Maintenance Manual (AMM), Revision 50, dated November 1, 2012; do not have to be inspected as required by paragraph (g) of this AD. A review of airplane maintenance records is acceptable to make this determination if the status can be conclusively determined from that review.

(3) Where Airbus Service Bulletin A320-57-1169, Revision 01, dated September 18, 2012, specifies to contact Airbus and apply corrective action defined by Airbus: Before further flight, repair the jack anchorage fitting using a method approved by either the Manager, International Branch, ANM-116, Transport Airplane Directorate, FAA; or the European Aviation Safety Agency (EASA) (or its delegated agent).

(j) Parts Installation Limitations

As of the effective date of this AD, no person may install, on any airplane, a special washer having P/N D5725260120000 or P/N D5725664320000, unless it is installed in accordance with the Accomplishment Instructions of Airbus Service Bulletin A320-57-1169, Revision 01, dated September 18, 2012; or in accordance with the instructions specified in the tasks identified in paragraphs (j)(1), (j)(2), and (j)(3) of this AD.

(1) Task 57-26-13-400-001-A, Installation of the Bearing Assembly of the Forward Pintle Pin, in Subject 57-26-13, Attachment—Main Landing Gear, of Chapter 57, Wings, of the Airbus A318/A319/A320/A321 Aircraft Maintenance Manual (AMM), Revision 50, dated November 1, 2012.

(2) Task 57-26-13-400-002-A, Installation of the Bearing Assembly of the MLG Actuator Attachment, in Subject 57-26-13, Attachment—Main Landing Gear, of Chapter 57, Wings, of the Airbus A318/A319/A320/A321 AMM, Revision 50, dated November 1, 2012.

(3) Task 57-26-13-400-004-A Installation of the Bearing Seals of the MLG Actuator Bearing Assembly, in Subject 57-26-13, Attachment—Main Landing Gear, of Chapter 57, Wings, of the Airbus A318/A319/A320/A321 AMM, Revision 50, dated November 1, 2012.

(k) Credit for Previous Actions

This paragraph provides credit for actions required by paragraph (g) of this AD, if those actions were performed before the effective date of this AD using Airbus Service Bulletin A320-57-1169, dated January 10, 2012, which is not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to Mandatory Continuing Airworthiness Information (MCAI) EASA Airworthiness Directive 2012-0223, dated October 23, 2012; Airbus Service Bulletin A320-57-1169, Revision 01, dated September 18, 2012; and the following tasks specified in Subject 57-26-13, of Chapter 57, Wings, of the Airbus A318/A319/A320/A321 AMM, Revision 50, dated November 1, 2012; for related information.

(i) Task 57-26-13-400-001-A, Installation of the Bearing Assembly of the Forward Pintle Pin.

(ii) Task 57-26-13-400-002-A, Installation of the Bearing Assembly of the MLG Actuator Attachment.

(iii) Task 57-26-13-400-004-A, Installation of the Bearing Seals of the MLG Actuator Bearing Assembly.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. You may review copies of the referenced service information at the FAA, Transport Airplane Directorate, 1601 Lind Avenue SW., Renton, WA. For information on the availability of this material at the FAA, call 425-227-1221.

Issued in Renton, Washington, on June 17, 2013.
Jeffrey E. Duven,
Acting Manager, Transport Airplane Directorate, Aircraft Certification Service.

[FR Doc. 2013-15663 Filed 6-28-13; 8:45 am]

BILLING CODE 4910-13-P